DEPARTMENT OF THE INTERIOR

Bureau of Land Management

[ID-230-5874-EU-025D; DB-G06-1007; IDI-35904]

Notice of Realty Action; Proposed Sale of Public Land, Idaho and Termination of a Multiple Use Classification on a Portion of These Lands

AGENCY: Bureau of Land Management, Interior.

ACTION: Notice of Realty Action.

SUMMARY: Several parcels of public land totaling 262.21 acres in Minidoka County, Idaho, are being considered for direct sale under the provisions of the Federal Land Policy and Management Act of 1976 (FLPMA), at no less than the appraised fair market value. This notice also terminates the Multiple Use Classification on a portion of these lands as this classification is no longer needed.

DATES: In order to ensure consideration in the environmental analysis of the proposed sale, comments must be received by October 9, 2008.

ADDRESSES: Address all comments concerning this Notice to Tara Hagen, Realty Specialist, Bureau of Land Management (BLM), Shoshone Field Office, 400 West F Street, Shoshone, Idaho 83352.

FOR FURTHER INFORMATION CONTACT: Tara Hagen, Realty Specialist, at the above address or phone at (208) 732-7205.

SUPPLEMENTARY INFORMATION: This notice terminates the Multiple Use Management Classification, dated February 11, 1969, on the following described public lands in Minidoka County, Idaho. This classification is no longer needed and these lands will be considered for sale as discussed below.

T. 7 S., R. 24 E.,

Sec. 4, Lots 3-4.

The area described contains 42.48 acres in Minidoka County.

The following described public land in Minidoka County, Idaho, are being considered for sale under the authority of Sections 203 and 209 of the Federal Land Policy and Management Act of 1976, (90 Stat. 2750, 43 U.S.C. 1713):

Boise Meridian

T. 6 S., R. 24 E.,

Sec. 30, SWSE; Sec. 31, SESE, Lots 1, 4-6

T. 7 S., R. 24 E.,

Sec. 4, Lots 3-4.

The area described contains 262.21 acres in Minidoka County.

The 1985 BLM Monument Resource Management Plan identified these parcels of public land as suitable for disposal. The Amendments to Shoshone Field Office Land Use Plans for Land Tenure Adjustment and Areas of Critical Environmental Concern (2003) identified these parcels of land to be within the adjustment areas of Zones 2 and 4. Public lands within ½-mile of either side of the Zone 2 boundary will be considered potentially suitable for disposal primarily by exchange and secondarily by sale or R&PP patent. Public lands in Zone 4 are potentially suitable for disposal primarily by exchange; however, if land exchanges are not feasible, then land tenure adjustment via sale or R&PP patent will be considered. These parcels qualify for disposal under the Federal Land Transaction Facilitation Act (FLTFA). Conveyance of the identified public land will be subject to valid existing rights and encumbrances of record, including but not limited to, rights-of-way for roads and public utilities. Conveyance of any mineral interests pursuant to Section 209 of the FLPMA will be analyzed during processing of the proposed sale.

On August 25, 2008, the above-described land will be segregated from appropriation under the public land laws, including the mining laws, except the sale provisions of the FLPMA. Until completion of the sale, the BLM is no longer accepting land use applications affecting the identified public land, except applications for the amendment of previously filed right-of-way applications or existing authorizations to increase the term of the grants in accordance with 43 CFR 2807.15 and 2886.15. The segregative effect will terminate upon issuance of a patent, publication in the Federal Register of a termination of the segregation, or August 25, 2010, unless extended by the BLM State Director in accordance with 43 CFR 2711.1-2(d) prior to the termination date.

Public Comments: For a period until October 9, 2008, interested parties and the general public may submit in writing any comments concerning the land being considered for sale, including notification of any encumbrances or other claims relating to the identified land, to Field Manager, BLM Shoshone Field Office, at the above address. In order to ensure consideration in the environmental analysis of the proposed sale, comments must be in writing and postmarked or delivered within 45 days of the initial date of publication of this Notice. Comments transmitted via e-mail will not be accepted. Comments, including names and street addresses of respondents, will be available for public review at the BLM Shoshone Field Office during regular business hours, except holidays. Individual respondents may request confidentiality. Before including your address, phone number, e-mail address, or other personal identifying information in your comment, you should be aware that your entire comment—including your personal identifying information—may be made publicly available at any time. While you can ask us in your comment to withhold your personal identifying information from public review, we cannot guarantee that we will be able to do so. If you wish to have your name or address withheld from public disclosure under the Freedom of Information Act, you must state this prominently at the beginning of your comments. Any determination by the BLM to release or withhold the names and/or addresses of those who comment will be made on a case-by-case basis. Such requests will be honored to the extent allowed by law. The BLM will make available for public review, in their entirety, all comments submitted by businesses or organizations, including comments by individuals in their capacity as an official or representative of a business or organization.

Authority: 43 CFR 2711.1-2.

Dated: August 14, 2008.
Lori A. Armstrong,
Shoshone Field Manager.

[FR Doc. E8-19489 Filed 8-22-08; 8:45 am]

BILLING CODE 4310-01-P